DEPARTMENT OF TRANSPORTATION

Pipeline and Hazardous Materials Safety Administration

Hazardous Materials: Notice of Applications for Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before May 25, 2018.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on May 2, 2018.
Donald P. Burger,
Chief, General Approvals and Permits Branch.

Application No. | Applicant | Regulation(s) affected | Nature of the special permits thereof
Special Permits Data
9198-M | Interior Business Center | 173.7(f) | To modify the special permit to authorize the incorporation of the “National Wildfire Coordination Group Standards” Handbook. (mode 4)
11054-M | WELKER, INC | 173.301(f)(2), 173.302a(a)(1), 173.304a(a)(1), 173.304a(d)(3)(i), 173.201(c), 173.202(c), 173.203(c), 177.840(a)(1) | To modify the special permit to authorize a new high pressure sample cylinder. (modes 1, 2,3,4)
11379-M | TRW AUTOMOTIVE INC | 173.301, 173.302a | To modify the special permit to authorize additional disposal options. (modes 1,2,3,4,5)
12532-M | CARLETON TECHNOLOGIES, INC | 173.302a(a) | To modify the special permit to clarify the proof testing pressure when a cylinder is inspected. (modes 1,2,4)
13301-M | UNITED TECHNOLOGIES CORPORATION | 172.200, 172.400, 172.300 | To modify he special permit to authorize the transportation in commerce of certain hazardous materials for a distance of approximately 2400 feet without proper hazard communication. (mode 1)
16011-M | AMERICASE, INC | 172.200, 172.300, 172.400, 172.500, 172.600, 172.700(a), 173.185(f) | To modify the special permit to authorize an additional packaging for shipping damaged or defective batteries. (modes 1,2,3)
16415-M | VOLKSWAGEN GROUP OF AMERICA, INC | 173.302a | To modify the special permit to authorize an additional 2.2 hazmat. (modes 1,3)
16514-M | WALGREEN CO. | 172.301(c), 173.185(c)(1)(iii), 173.185(c)(3)(i) | To modify the special permit to harmonize the permit with HM-215N and to authorize rail transportation. (modes 1,2)

[FR Doc. 2018-09975 Filed 5-9-18; 8:45 am]

BILLING CODE 4909-60-P